SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: September 1-30, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22 f)

1. Beech Resources, LLC; Pad ID: Delta Well Site; ABR-202209004; Lycoming Township, Lycoming County, Pa.; Consumptive Use of Up to 3.0000 mgd; Approval Date: September 9, 2022.

2. Chesapeake Appalachia, L.L.C.; Pad ID: Indian Foot; ABR-202209003; Albany and Monroe Townships, Bradford County, Pa.; Consumptive Use of Up to 7.5000 mgd; Approval Date: September 9, 2022.

3. Coterra Energy Inc.; Pad ID: Diaz Family LP P2; ABR-202209002; Bridgewater Township, Susquehanna County, Pa.; Consumptive Use of Up to 5.0000 mgd; Approval Date: September 9, 2022.

4. Range Resources—Appalachia, LLC; Pad ID: Arrowhead Hunting Club Unit; ABR-20100534.R2; Gallagher Township, Clinton County, Pa.; Consumptive Use of Up to 4.0000 mgd; Approval Date: September 9, 2022.

5. Chesapeake Appalachia, L.L.C.; Pad ID: G & S Big Rigger Drilling Pad; ABR-201207022.R2; Cherry Township, Sullivan County, Pa.; Consumptive Use of Up to 2.0000 mgd; Approval Date: September 20, 2022.

6. Chesapeake Appalachia, L.L.C.; Pad ID: SGL-12 J UNIT PAD; ABR-202204001; Leroy Township, Bradford County, Pa.; Consumptive Use of Up to 6.0000 mgd; Approval Date: September 20, 2022.

7. Chesapeake Appalachia, L.L.C.; Pad ID: King Drilling Pad #1; ABR-201205007.R2; Towanda Township, Bradford County, Pa.; Consumptive Use of Up to 7.5000 mgd; Approval Date: September 20, 2022.

8. Chesapeake Appalachia, L.L.C.; Pad ID: Polowy Drilling Pad #1; ABR-201205008.R2; Ulster Township, Bradford County, Pa.; Consumptive Use of Up to 7.5000 mgd; Approval Date: September 20, 2022.

9. Chesapeake Appalachia, L.L.C.; Pad ID: SGL 12 HARDY DRILLING PAD; ABR-201706005.R1; Overton Township, Bradford County, Pa.; Consumptive Use of Up to 7.5000 mgd; Approval Date: September 20, 2022.

10. EQT ARO LLC; Pad ID: Kenneth L Martin Pad A; ABR-201208008.R2; Cogan House Township, Lycoming County, Pa.; Consumptive Use of Up to 4.0000 mgd; Approval Date: September 20, 2022.

11. EQT ARO LLC; Pad ID: Red Fox H&FC Pad B; ABR-201208010.R2; Cogan House Township, Lycoming County, Pa.; Consumptive Use of Up to 4.0000 mgd; Approval Date: September 20, 2022.

12. Repsol Oil & Gas USA, LLC; Pad ID: BOOR (03 010) J; ABR-20100665.R2; Columbia Township, Bradford County, Pa.; Consumptive Use of Up to 6.0000 mgd; Approval Date: September 20, 2022.

13. Seneca Resources Company, LLC; Pad ID: Davis 829; ABR-201008033.R2; Farmington Township, Tioga County, Pa.; Consumptive Use of Up to 4.0000 mgd; Approval Date: September 20, 2022.

14. Seneca Resources Company, LLC; Pad ID: DCNR Tract 007 Pad L; ABR-202209001; Chatham and Shippen Townships, Tioga County, Pa.; Consumptive Use of Up to 4.0000 mgd; Approval Date: September 20, 2022.

15. Seneca Resources Company, LLC; Pad ID: Dewey Hollow Rod & Gun Club 601; ABR-201007128.R2; Sullivan Township, Tioga County, Pa.; Consumptive Use of Up to 4.0000 mgd; Approval Date: September 20, 2022.

16. Chesapeake Appalachia, L.L.C.; Pad ID: BDF; ABR-20100640.R2; Smithfield Township, Bradford County, Pa.; Consumptive Use of Up to 7.5000 mgd; Approval Date: September 21, 2022.

17. Chesapeake Appalachia, L.L.C.; Pad ID: Pieszala; ABR-201007065.R2; Windham Township, Wyoming County, Pa.; Consumptive Use of Up to 7.5000 mgd; Approval Date: September 21, 2022.

18. Chesapeake Appalachia, L.L.C.; Pad ID: Tiffany; ABR-201007025.R2; Windham Township, Wyoming County, Pa.; Consumptive Use of Up to 7.5000 mgd; Approval Date: September 21, 2022.

19. EQT ARO LLC; Pad ID: George E Hagemeyer Pad A; ABR-201008077.R2; Gamble Township, Lycoming County, Pa.; Consumptive Use of Up to 4.0000 mgd; Approval Date: September 21, 2022.

20. EQT ARO LLC; Pad ID: Thomas E Smith Pad A; ABR-201008057.R2; Gamble Township, Lycoming County, Pa.; Consumptive Use of Up to 4.0000 mgd; Approval Date: September 21, 2022.

21. Repsol Oil & Gas USA, LLC; Pad ID: DCNR 587 (02 003); ABR-201008069.R2; Ward Township, Tioga County, Pa.; Consumptive Use of Up to 6.0000 mgd; Approval Date: September 21, 2022.

22. Repsol Oil & Gas USA, LLC; Pad ID: MORGAN (01 073) K; ABR-20100693.R2; Armenia Township, Bradford County, Pa.; Consumptive Use of Up to 6.0000 mgd; Approval Date: September 21, 2022.

23. Repsol Oil & Gas USA, LLC; Pad ID: ROY (03 039) J; ABR-20100630.R2; Wells Township, Bradford County, Pa.; Consumptive Use of Up to 6.0000 mgd; Approval Date: September 21, 2022.

24. Repsol Oil & Gas USA, LLC; Pad ID: WHITE (03 025) E; ABR-201006101.R2; Columbia Township, Bradford County, Pa.; Consumptive Use of Up to 6.0000 mgd; Approval Date: September 21, 2022.

25. Chesapeake Appalachia, L.L.C. ; Pad ID: Aikens; ABR-201008068.R2; Litchfield Township, Bradford County, Pa.; Consumptive Use of Up to 7.5000 mgd; Approval Date: September 26, 2022.

26. Chesapeake Appalachia, L.L.C.; Pad ID: Ammerman; ABR-201008099.R2; Litchfield Township, Bradford County, Pa.; Consumptive Use of Up to 7.5000 mgd; Approval Date: September 26, 2022.

27. Chesapeake Appalachia, L.L.C.; Pad ID: Beebe; ABR-20100687.R2; Asylum Township, Bradford County, Pa.; Consumptive Use of Up to 7.5000 mgd; Approval Date: September 26, 2022.

28. Chesapeake Appalachia, L.L.C.; Pad ID: Breezy; ABR-201007037.R2; Troy Township, Bradford County, Pa.; Consumptive Use of Up to 7.5000 mgd; Approval Date: September 26, 2022.

29. Chesapeake Appalachia, L.L.C.; Pad ID: George; ABR-201008101.R2; Windham Township, Wyoming County, Pa.; Consumptive Use of Up to 7.5000 mgd; Approval Date: September 26, 2022.

30. Chesapeake Appalachia, L.L.C.; Pad ID: Moore Farm; ABR-201008050.R2; Canton Township, Bradford County, Pa.; Consumptive Use of Up to 7.5000 mgd; Approval Date: September 26, 2022.

31. Chesapeake Appalachia, L.L.C.; Pad ID: Strope; ABR-201007035.R2; Ulster Township, Bradford County, Pa.; Consumptive Use of Up to 7.5000 mgd; Approval Date: September 26, 2022.

32. EOG Resources, Inc.; Pad ID: MICCIO 1H Pad; ABR-201008119.R2; Ridgebury Township, Bradford County, Pa.; Consumptive Use of Up to 3.0000 mgd; Approval Date: September 26, 2022.

33. EQT ARO LLC; Pad ID: Wallis Run HC Pad A; ABR-201008078.R2; Cascade Township, Lycoming County, Pa.; Consumptive Use of Up to 4.0000 mgd; Approval Date: September 26, 2022.

34. Repsol Oil & Gas USA, LLC; Pad ID: EDSELL (05 003) C; ABR-201008076.R2; Pike Township, Bradford County, Pa.; Consumptive Use of Up to 6.0000 mgd; Approval Date: September 26, 2022.

35. Repsol Oil & Gas USA, LLC ; Pad ID: O'ROURKE (05 046) W; ABR-201008124.R2; Warren Township, Bradford County, Pa.; Consumptive Use of Up to 6.0000 mgd; Approval Date: September 26, 2022.

36. Repsol Oil & Gas USA, LLC; Pad ID: ROCKEFELLER (05 275) F; ABR-202209006; Middletown Township, Susquehanna County, Pa.; Consumptive Use of Up to 6.0000 mgd; Approval Date: September 26, 2022.

37. Seneca Resources Company, LLC; Pad ID: Baker 897; ABR-201008074.R2; Deerfield Township, Tioga County, Pa.; Consumptive Use of Up to 4.0000 mgd; Approval Date: September 26, 2022.

38. SWN Production Company, LLC; Pad ID: TI-09 BROWN; ABR-201708001.R1; Jackson Township, Lycoming County, Pa.; Consumptive Use of Up to 4.9990 mgd; Approval Date: September 26, 2022.

39. Repsol Oil & Gas USA, LLC; Pad ID: BRELSFORD (01 086) H; ABR-201008128.R2; Armenia Township, Bradford County, Pa.; Consumptive Use of Up to 6.0000 mgd; Approval Date: September 29, 2022.

40. Seneca Resources Company, LLC; Pad ID: DCNR 100 Pad N; ABR-201207014.R2; Lewis Township, Lycoming County, Pa.; Consumptive Use of Up to 4.0000 mgd; Approval Date: September 29, 2022.

41. Seneca Resources Company, LLC; Pad ID: Old Possessions Hunting Club 485; ABR-201008117.R2; Sullivan Township, Tioga County, Pa.; Consumptive Use of Up to 4.0000 mgd; Approval Date: September 29, 2022.

Authority: Public Law 91-575, 84 Stat. 1509 et seq., 18 CFR parts 806 and 808.

Dated: October 7, 2022.
Jason E. Oyler,
General Counsel and Secretary to the Commission.

[FR Doc. 2022-22246 Filed 10-12-22; 8:45 am]

BILLING CODE 7040-01-P